INTERNATIONAL TRADE COMMISSION

[Investigation No. 337-TA-893]

Certain Flash Memory Chips and Products Containing the Same Commission Determination Not To Review an Initial Determination Granting a Joint Motion To Terminate the Investigation in Its Entirety Based Upon Settlement; Termination of the Investigation

AGENCY: U.S. International Trade Commission.

ACTION: Notice.

SUMMARY: Notice is hereby given that the U.S. International Trade Commission has determined not to review an initial determination (“ID”) (Order No. 78) of the presiding administrative law judge (“ALJ”) granting a joint motion by complainant and respondents to terminate the investigation in its entirety based upon settlement.

FOR FURTHER INFORMATION CONTACT: Panyin A. Hughes, Office of the General Counsel, U.S. International Trade Commission, 500 E Street SW., Washington, DC 20436, telephone (202) 205-3042. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on September 9, 2013, based on a complaint filed by Spansion, LLC of Sunnyvale, California (“Spansion”). The complaint alleged violations of section 337 of the Tariff Act of 1930, as amended, 19 U.S.C. 1337, in the importation into the United States, the sale for importation, and the sale within the United States after importation of certain flash memory chips and products containing the same by reason of infringement of certain claims of U.S. Patent Nos. 6,900,124; 7,018,922; 6,369,416; 7,151,027; 6,459,625; and 6,731,536. See 78 Fed. Reg. 55095 (Sept. 9, 2013). The notice of investigation named the following respondents: Macronix International Co, Ltd., of Hsin-chu, Taiwan; Macronix America, Inc., of Milpitas, California; Macronix Asia Limited of Kanagawa Pref., Japan; Macronix (Hong Kong) Co., Ltd., of Sha Tin, N.T., Hong Kong; Acer Inc. of New Taipei City, Taiwan; Acer America Corporation of San Jose, California; ASUSTek Computer Inc. of Taipei, Taiwan; Asus Computer International of Fremont, California; Belkin International, Inc., of Playa Vista, California; D-Link Corporation of Taipei City, Taiwan; D-Link System, Inc., of Fountain Valley, California; Netgear Inc., San Jose, California; Nintendo Co., Ltd., of Kyoto, Japan; and Nintendo of America, Inc., of Redmond, Washington (collectively, “Respondents”).

On January 29, 2015, Spansion and Respondents filed a joint motion to terminate the investigation in its entirety based upon the execution of a settlement agreement. On February 9, 2015, the Commission investigative attorney filed a response in support of termination. No other responses to the motion were filed.

On February 11, 2015, the ALJ issued the subject ID, granting the joint motion to terminate the investigation in its entirety. The ALJ found that the settlement agreement complies with the requirements of Commission Rule 210.21(b) (19 CFR 210.21(b)) and that terminating Respondents from the investigation would not be contrary to the public interest. None of the parties petitioned for review of the ID.

The Commission has determined not to review the ID.

The authority for the Commission's determination is contained in section 337 of the Tariff Act of 1930, as amended (19 U.S.C. 1337), and in section 210.42 of the Commission's Rules of Practice and Procedure (19 CFR 210.42).

By order of the Commission.
Issued: March 10, 2015.
Lisa R. Barton,
Secretary to the Commission.

[FR Doc. 2015-05812 Filed 3-13-15; 8:45 am]

BILLING CODE 7020-02-P